FEDERAL MARITIME COMMISSION

Ocean Transportation Intermediary License

Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A & D International Logistics, Corp. (NVO), 248 NW., 62nd Avenue, Miami, FL 33126, Officers: Diana Espinal Acevedo, Vice President/Secretary (Qualifying Individual), Aleido J. Cabrera, President/Treasurer, Application Type: New NVO License.

A.J. Worldwide Services Inc. (NVO & OFF), 501 Penhorn Avenue, Unit 8, Secaucus, NJ 07094, Officers: Shahryar Haq, Vice President (Qualifying Individual), Vivek Vellore, President/Secretary/Treasurer, Application Type: New NVO & OFF License.

American Red Ball International, Inc. (NVO & OFF), 9750 3rd Avenue NE., #200, Seattle, WA 98115, Officers: Beverly Franklin, CFO/Secretary (Qualifying Individual), Jim Gaw, Vice President & General Manager (Qualifying Individual), Application Type: QI Change.

American Royal International, Inc. (OFF), 1021 Washington Street, San Carlos, CA 94070, Officers: Khosrow Khorraminejad, President (Qualifying Individual), Negin Hakimian, Secretary, Application Type: New OFF License.

American Vanpac Carriers, Inc. (NVO & OFF), 9750 3rd Avenue NE., #200, Seattle, WA 98115, Officers: Jim Gaw, Vice President/General Manager (Qualifying Individual), Beverly Franklin, CFO/Secretary (Qualifying Individual), Application Type: QI Change.

Arocean Logistcs Inc (NVO & OFF), 13935 Lemoli Avenue, #20, Hawthorne, CA 90250, Officer: Anouvanh Pasasouk, CEO/Secretary/CFO (Qualifying Individual), Application Type: New NVO & OFF License.

Atlas Van Lines International Corp. (NVO & OFF), 9750 3rd Avenue NE., #200, Seattle, WA 98115, Officers: Beverly Franklin, Assistant Secretary (Qualifying Individual), Jim Gaw, Vice President/General Manager (Qualifying Individual), Application Type: QI Change.

CN Worldwide Inc. (NVO), 935 de La Gauchetiere Street, West Montreal, Quebec H2B 2M9 Canada, Officers: Kelly Levis, Vice President—USA (Qualifying Individual), Keith Reardon, President/Director, Application Type: QI Change.

Cruises Logistic USA, Inc. (NVO & OFF), 11825 NW. 100th Road, #1-3, Medley, FL 33178, Officers: Ivonne Zani, Vice President (Qualifying Individual), Application Type: New NVO & OFF License.

Den Hartogh Americas Inc. (NVO), 2727 Allen Parkway, Suite 1700, Houston, TX 77019, Officers: Michael W. Milner, Vice President (Qualifying Individual), Pieter den Hartogh, President, Application Type: New NVO License.

Draco Freight Logistics Corporation (NVO & OFF), 8544 NW. 93rd Street, Medley, FL 33166, Officer: Leonardo Capra, President (Qualifying Individual), Application Type: New NVO & OFF License.

D.T. Gruelle Company Group, LLC (NVO & OFF), 301 Moon Clinton Road, Coraopolis, PA 15108, Officers: Marco T. Gruelle, Manager/Director/Corporate Secretary (Qualifying Individual), Durard T. Gruelle, Member/Manager/President/CEO/CEM (Qualifying Individual), Application Type: QI Change & License Transfer.

Export Forwarders LLC (OFF), 3509 Vicky Circle, Kennesaw, GA 30144, Officers: David R. Ashford, Member (Qualifying Individual), Application Type: New OFF License.

Jaguar Worldwide Logistics, Inc. (NVO & OFF), 10 E. Merrick Road, Suite 204, Valley Stream, NY 11580, Officers: Arden S. Chan, Director/Secretary (Qualifying Individual), Cooper Chao, Director/President, Application Type: New NVO & OFF License.

MidEast Shipping LLC (NVO), 443 W. Linden Drive, Orange, CA 92865, Officers: Abdelrahman Albarq, President (Qualifying Individual), Kimberly J. Albarq, Secretary, Application Type: New NVO License.

NIK Transport, Inc. (NVO & OFF), 17360 Colima Blvd., Suite 161, Rowland Heights, CA 91748, Officer: Stephanie L. Fang, President/VP/Treasurer/Secretary (Qualifying Individual), Application Type: QI Change.

OQ Enterprises, Inc. (NVO), 2535 W. Winton Avenue, #4P, Hayward, CA 94545, Officers: Oscar M. Quiambao, President (Qualifying Individual), Christine B. Quiambao, Secretary/Treasurer, Application Type: New NVO License.

RD International Forwarder Corp. (NVO & OFF), Amelia Industrial Park, Guaynabo, PR 00968, Officers: Rebeca Negron, President (Qualifying Individual), Daniel Freire, Controller, Application Type: New NVO & OFF License.

Safeway Global Shipping LLC (NVO), 9630 Clarewood Street, Building D6, Houston, TX 77054, Officers: Houston S. Lopez, Vice President/Exports (Qualifying Individual), Sunday K. Oyeniran, President, Application Type: New NVO License.

Sentry Cargo International, Inc. (OFF), 8322 NW. 68 Street, Miami, FL 33166, Officer: Eduardo del Pozo, President/Secretary (Qualifying Individual), Application Type: New OFF License.

World Maritime Limited Liability Company (NVO), 2081 Raritan Road, Scotch Plains, NJ 07076-4711, Officers: Robin Lynch, Managing Member (Qualifying Individual), Cutberto J. Parra Mendoza, Member, Application Type: New NVO License.

Zenith Logistics (USA) Inc. (NVO), 175-01 Rockaway Blvd., Suite 218, Jamaica, NY 11434, Officers: Xiao Jun He, Vice President (Qualifying Individual), Xuemei Ma, President/Treasurer, Application Type: New NVO License.

Zimmer Worldwide Logistics, Inc. (NVO & OFF), 530 Wells Fargo Drive, #218, Houston, TX 77090, Officers: Thomas R. Shaw, Vice President (Qualifying Individual), Margaret J. Zimmer, President, Application Type: Add NVO Service.

Zur-Go, Inc (NVO & OFF), 6907 NW., 82nd Avenue, Miami, FL 33166, Officers: Rafael M. Leonardi, President (Qualifying Individual), Carmen E. Vargas, Secretary, Application Type: New NVO & OFF License.

Dated: September 26, 2011.
Karen V. Gregory,
Secretary.

[FR Doc. 2011-25170 Filed 9-29-11; 8:45 am]

BILLING CODE 6730-01-P